DEPARTMENT OF HEALTH AND HUMAN SERVICES

Administration for Children and Families

45 CFR Part 1000

RIN 0970-ACO8

Office of Community Services; Individual Development Accounts

AGENCY: Office of Community Services, Administration for Children and Families, HHS.

ACTION: Correcting amendments.

SUMMARY: The Administration for Children and Families is correcting the final rule on Accounting for Amounts in Reserve Funds published on September 25, 2001 in the Federal Register (66 FR 48970).

DATES: Effective April 22, 2002.

FOR FURTHER INFORMATION CONTACT: Sheldon Shalit, Office of Community Services, (202) 401-4807, or Richard Saul, Office of Community Services, (202) 401-9341. Hearing impaired individuals may call the Federal Dual Party Relay Service at 800-877-8339 between 8:00 a.m. and 7:00 p.m. eastern time.

SUPPLEMENTARY INFORMATION

I. Background

On September 25, 2001, the Office of Community Services published the final rule on Accounting for Amounts in Reserve Funds as required by the Assets for Independence Act (the Act), or title IV of Pub. L. 105-285 in the Federal Register (66 FR 48970). The final rule creates a new Part 1000 in the Code of Federal Regulations, defines the eligible entities and individuals that may participate in the Individual Development Account (IDA) program. The final rule also stipulates that grantees must comply with Departmental uniform administrative requirements in maintaining IDA reserve funds. The effective date of the rule was September 25, 2001.

II. Need for Technical Corrections in 45 CFR Part 1000

In reviewing the final rule, we have identified technical errors resulting from statutory changes made by amendments to the original statute on December 21, 2000, through the Assets for Independence Act Amendments of 2000 (Pub. L. 106-554). The amendments modified definitions and changed allowable program expenditures for administrative costs. The change in allowable expenditures for administrative costs alters the statutorily-mandated amount grantees must deposit in the reserve fund. We are making these technical, conforming amendments to correct and clarify the regulation.

Regulatory Text

We have made the following change to the regulatory text:

• We are revising the definition of Reserve Fund to be consistent with the Act, as amended. In the definition of reserve fund at § 1000.2, the definition refers to the requirements at section 407 of Pub.L. 105-285 that at least 90.5 percent of the Federal grant funds in the Reserve Funds must be used as matching contributions for Individual Development Accounts. This provision was amended by the Assets for Independence Act Amendments (AFIA) (Pub.L. 106-554) to allow grantees to use up to 15 percent of their grant for administrative costs. Therefore, no less than 85 percent of the grant can used for matching contributions, rather than the 90.5 percent under previous law. Therefore, the definition of Reserve Fund at § 1000.2 is revised to be consistent with the statute.

Impact Analysis

No impact analysis is needed for these technical corrections. The impact of the necessary corrections falls within the analysis of the final rule published in the Federal Register on September 25, 2001 (66 FR 48970).

List of Subjects in 45 CFR Part 1000

Grant Programs/Social Programs.

(Catalog of Federal Domestic Assistance Programs No. 93.602, Individual Development Account/Assets for Independence)
Dated: April 8, 2002.
Ann C. Agnew,
Executive Secretary to the Department.

For the reasons set forth in the preamble, 45 CFR part 1000 is amended by making the following technical corrections:

PART 1000—Individual Development Account Reserve Funds Established Pursuant to Grants for Assets for Independence

1. The authority citation for Part 1000 continues to read as follows:

Authority: 42 U.S.C. 604nt.

2. Section 1000.2 is amended by revising the definition of Reserve Fund to read as follows:

§ 1000.2 Definitions.

Reserve Fund means a fund, established by a qualified entity, that shall include all funds provided to the qualified entity from any public or private source in connection with the demonstration project and the proceeds from any investment made with such funds. The fund shall be maintained in accordance with section 407(c)(3), as amended. No less than 85 percent of the Federal grant funds in the Reserve Fund shall be used as matching contributions for Individual Development Accounts.

[FR Doc. 02-8990 Filed 4-19-02; 8:45 am]

BILLING CODE 4184-01-P